DEPARTMENT OF TRANSPORTATION

Federal Aviation Administration

14 CFR Part 95

[Docket No. 31129; Amdt. No. 532]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, April 27, 2017.

FOR FURTHER INFORMATION CONTACT: Thomas J Nichols, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on March 24, 2017.
John Duncan,
Director, Flight Standards Service.

Adoption of the Amendment

Accordingly, pursuant to the authority delegated to me by the Administrator, part 95 of the Federal Aviation Regulations (14 CFR part 95) is amended as follows effective at 0901 UTC, April 27,2017.

1. The authority citation for part 95 continues to read as follows:

Authority: 49 U.S.C. 106(g), 40103, 40106, 40113, 40114, 40120, 44502, 44514, 44719, 44721.

2. Part 95 is amended to read as follows:

Revisions to IFR Altitudes and Changeover Point
[Amendment 532 effective date April 27, 2017]
From | To | MEA
§ 95.6001 Victor Routes—U.S.
§ 95.6012 VOR Federal Airway V12 Is Amended To Read in Part
PANHANDLE, TX VORTAC | MITBEE, OK VORTAC | 5500
§ 95.6014 VOR Federal Airway V14 Is Amended To Read in Part
HOBART, OK VORTAC | CARFF, OK FIX | 3700
CARFF, OK FIX | *DATTA, OK FIX | 3000
*3500—MRA
*DATTA, OK FIX | WILL ROGERS, OK VORTAC | 3000
*3500—MRA
§ 95.6017 VOR Federal Airway V17 Is Amended To Read in Part
CAMAR, OK FIX | MITBEE, OK VORTAC
W BND |  | 4300
E BND |  | 4900
§ 95.6096 VOR Federal Airway V96 Is Amended To Read in Part
FORT WAYNE, IN VORTAC | *ILLIE, OH FIX | **5000
*16000—MCA ILLIE, OH FIX, NE BND
**2300—MOCA
ILLIE, OH FIX | *ANNTS, OH FIX | **16000
*16000—MCA ANNTS, OH FIX, SW BND
**2100—MOCA
ANNTS, OH FIX | DETROIT, MI VOR/DME | *3000
*2100—MOCA
§ 95.6140 VOR Federal Airway V140 Is Amended By Adding
PANHANDLE, TX VORTAC | BURNS FLAT, OK VORTAC | 5300
BURNS FLAT, OK VORTAC | *HISLA, OK FIX | 3600
*4000—MRA
*HISLA, OK FIX | KINGFISHER, OK VORTAC | **3600
*4000—MRA
**3000—MOCA
Is Amended To Delete
PANHANDLE, TX VORTAC | ZESUS, TX FIX | 5800
*3000—MOCA
ZESUS, TX FIX | SAYRE, OK VORTAC
| W BND | *5000
| E BND | *5800
SAYRE, OK VORTAC | ODINS, OK FIX | 4000
ODINS, OK FIX | KINGFISHER, OK VORTAC | *3500
*3100—MOCA
§ 95.6272 VOR Federal Airway V272 Is Amended To Read in Part
BORGER, TX VORTAC | BRISC, TX FIX | 5000
Is Amended By Adding
BRISC, TX FIX | BURNS FLAT, OK VORTAC | *5000
*4500—MOCA
BURNS FLAT, OK VORTAC | WILL ROGERS, OK VORTAC | 4500
Is Amended To Delete
BRISC, TX FIX | SAYRE, OK VORTAC | *5500
*4500—MOCA
SAYRE, OK VORTAC | SERTS, OK FIX | 3900
SERTS, OK FIX | LIONS, OK FIX | *4500
*3100—MOCA
*3700—GNSS MEA
LIONS, OK FIX | WILL ROGERS, OK VORTAC | 3300
§ 95.6280 VOR Federal Airway V280 Is Amended To Read in Part
PANHANDLE, TX VORTAC | MITBEE, OK VORTAC | 5500
§ 95.6440 VOR Federal Airway V440 Is Amended By Adding
BRISC, TX FIX | BURNS FLAT, OK VORTAC | *5000
*4500—MOCA
BURNS FLAT, OK VORTAC | CARFF, OK FIX | 3600
Is Amended To Delete
BRISC, TX FIX | SAYRE, OK VORTAC | *5500
*4500—MOCA
SAYRE, OK VORTAC | CARFF, OK FIX | 4000

Airway segment: From | Airway segment: To | Changeover points: Distance | Changeover points: From
§ 95.8003 VOR Federal Airway Changeover Point
V140 Is Amended To Modify Changeover Point
PANHANDLE, TX VORTAC | BURNS FLAT, OK VORTAC | 56 | PANHANDLE.
V272 Is Amended To Add Changeover Point
BORGER, TX VORTAC | BURNS FLAT, OK VORTAC | 51 | BORGER.
Is Amended To Delete Changeover Point
SAYRE, OK VORTAC | WILL ROGERS, OK VORTAC | 40 | SAYRE.

[FR Doc. 2017-06294 Filed 3-29-17; 8:45 am]

BILLING CODE 4910-13-P